NATIONAL SCIENCE FOUNDATION

Advisory Committee for Education and Human Resources; Notice of Meeting

In accordance with the Federal Advisory Committee Act (Pub. L. 92-463, as amended), the National Science Foundation announces the following meeting:

Name: Advisory Committee for Education and Human Resources (#1119).

Date/Time: November 3, 2010; 8:30 a.m. to 5 p.m. November 4, 2010; 8:30 a.m. to 1 p.m.

Place: National Science Foundation, Room 555, Stafford II Annex, 4201 Wilson Boulevard, Arlington, VA 22203.

Type of Meeting: OPEN*.

*Visitors please report to the Information Center in NSF's North Lobby to receive your Visitor Badge and directions to the Stafford II Annex building next door to NSF's main building.

Contact Person: James Colby, National Science Foundation, 4201 Wilson Boulevard, Arlington, VA 22230 (703) 292-5331 jcolby@nsf.gov.

Purpose of Meeting: To provide advice with respect to the Foundation's science, technology, engineering, and mathematics (STEM) education and human resources programming.

Agenda

November 3, 2010 (Wednesday)

Report from the NSF Acting Assistant Director for Education and Human Resources Strategic Vision Break-out Groups:

Working Lunch

Break-out Groups Report to Full Committee

Visit with NSF Director and Deputy Director

November 4, 2010 (Thursday)

Receipt of Committee of Visitor Reports for:

Louis Stokes Alliances for Minority Participation Program

Alliances for Graduate Education and the Professoriate Program

Centers of Research Excellence in Science and Technology Program

Historically Black Colleges and Universities, Undergraduate Program

Tribal Colleges and Universities Program

Joint Meeting with Members of the Mathematical and Physical Sciences Advisory Committee.

Adjournment.

Dated: October 8, 2010.
Susanne Bolton,
Committee Management Officer.

[FR Doc. 2010-25823 Filed 10-13-10; 8:45 am]

BILLING CODE 7555-01-P